DEPARTMENT OF COMMERCE

Foreign-Trade Zones Board

[Order No. 1268]

Approval for Expanded Manufacturing Authority (Industrial Automation Products), Within Foreign-Trade Subzone 204A, Siemens Energy & Automation, Inc.; Carter County, TN

Pursuant to its authority under the Foreign-Trade Zones Act of June 18, 1934, as amended (19 U.S.C. 81a-81u), the Foreign-Trade Zones Board (the Board) adopts the following Order:

Whereas, the Tri-Cities Airport Commission, grantee of Foreign-Trade Zone 204, has applied to expand the scope of manufacturing authority for FTZ Subzone 204A (Siemens Energy & Automation, Inc. facilities in Carter County, Tennessee) to include production of additional finished products (e.g., automotive, media, and traffic technologies) and components under FTZ procedures (FTZ Doc. 16-2002; filed 3-4-2002);

Whereas, notice inviting public comment was given in the Federal Register (67 FR 11097, 3-12-2002); and,

Whereas, the Board adopts the findings and recommendations of the examiner's report, and finds that the requirements of the FTZ Act and Board's regulations are satisfied, and that approval of the application is in the public interest;

Now, therefore, the Board hereby approves the request subject to the FTZ Act and the Board's regulations, including Section 400.28, and further subject to a restriction that carrying cases of textile materials (HTS 4202.12) be admitted to the subzone in privileged-foreign status.

Signed at Washington, DC, this 7th day of February 2003.
Faryar Shirzad,
Assistant Secretary of Commerce for Import Administration, Alternate Chairman, Foreign-Trade Zones Board.

[FR Doc. 03-4581 Filed 2-26-03; 8:45 am]

BILLING CODE 3510-DS-P